DEPARTMENT OF THE INTERIOR

Geological Survey

[GX13MB00B98]

Agency Information Collection Activities: Notice of an Extension of an Information Collection Proposed Information Collection; Nonindigenous Aquatic Species Sighting Reporting Form

AGENCY: United States Geological Survey (USGS), Interior.

ACTION: Notice of an extension of a currently approved information collection (1028-0098).

SUMMARY: We (the U.S. Geological Survey) will ask the Office of Management and Budget (OMB) to approve the information collection (IC) described below. To comply with the Paperwork Reduction Act of 1995 (PRA) and as part of our continuing efforts to reduce paperwork and respondent burden, we invite the general public and other Federal agencies to take this opportunity to comment on this IC. This IC is scheduled to expire on December 31, 2013.

DATES: You must submit comments on or before November 25, 2013.

ADDRESSES: You may submit comments on this information collection to the Information Collection Clearance Officer, U.S. Geological Survey, 12201 Sunrise Valley Drive MS 807, Reston, VA 20192 (mail); (703) 648-7197 (fax); or dgovoni@usgs.gov (email). Please reference “Information Collection 1028-0098” in the subject line.

FOR FURTHER INFORMATION CONTACT: To request additional information, please contact Pam Fuller at (352) 264-3481 or pfuller@usgs.gov.

SUPPLEMENTARY INFORMATION:

I. Abstract

America is under siege by many harmful non-native species of plants, animals, and microorganisms. More than 6,500 nonindigenous species are now established in the United States, posing risks to native species, valued ecosystems, and human and wildlife health. These invaders extract a huge cost. The current annual environmental, economic, and health-related costs of invasive species exceed those of all other natural disasters combined.

USGS plays an important role in federal efforts to combat invasive species in natural and semi-natural areas through early detection and assessment of newly established invaders, monitoring of invading populations; improving understanding of the ecology of invaders and factors in the resistance of habitats to invasion. USGS provides the tools, technology, and information supporting efforts to prevent, contain, control, and manage invasive species nationwide. USGS also develops methods for compiling and synthesizing accurate and reliable data and information on invasive species, and the development of information products to meet user needs, for inclusion in a distributed and integrated web-based information system.

As part of the USGS Invasive Species Program, the Nonindigenous Aquatic Species (NAS) database (http://nas.er.usgs.gov) functions as a repository and clearinghouse for occurrence information on nonindigenous aquatic species from across the United States. It contains locality information on more than 1,100 species of vertebrates, invertebrates, and vascular plants introduced since 1850. Taxa include foreign species as well as those native to North America that have been transported outside of their natural range. The NAS Web site provides immediate access to new occurrence records through a real-time interface with the NAS database. Visitors to the Web site can use a set of predefined queries to obtain lists of species according to state or hydrologic basin of interest. Fact sheets, distribution maps, and information on new occurrences are continually posted and updated. Dynamically generated species distribution maps show the spatial accuracy of the locations reported, population status, and links to more information about each report.

Information is collected from the public regarding the distribution of nonindigenous aquatic species, primarily fish, in open waters of the United States. This is vital information for early detection and rapid response for the possible eradication of organisms that may be considered invasive in a natural environment such as a lake, river, stream, or pond. Because it is not possible for USGS scientists to monitor all open waters for harmful nonindigenous organisms, the public can help by serving as the “eyes and ears” for the USGS's Nonindigenous Aquatic Species Database Program.

The USGS does not actively solicit this information. Participation in the reporting process is completely voluntary. Members of the public who wish to report the occurrence of a suspected nonindigenous aquatic species, usually encountered through fishing or some other outdoor recreational activity, may fill out and submit a form (http://nas.er.usgs.gov/SightingReport.aspx) posted on our Web site. The information requested includes type of organism, date and location of sighting, photograph(s) if available, and basic observer information (to allow the USGS to contact the observer in the event additional information is needed, such as the color markings and size of the specimen collected or observed, to verify the identity of the organism).

II. Data

OMB Control Number: 1028-0098.

Title: Nonindigenous Aquatic Species Sighting Reporting Form.

Type of Request: Extension of a currently approved collection.

Affected Public: State and local government employees and private individuals.

Respondent's Obligation: None; voluntary.

Frequency of Collection: Occasional.

Estimated Annual Number of Respondents: 400.

Estimated Total Annual Responses: 400.

Estimated Time per Response: 10 minutes.

Estimated Total Annual Burden Hours: 67 hours.

Estimated Reporting and Recordkeeping “Non-Hour Cost” Burden: None.

Public Disclosure Statement: The PRA (44 U.S.C. 3501, et seq.) provides that an agency may not conduct or sponsor and you are not required to respond to a collection of information unless it displays a currently valid OMB control number.

III. Request for Comments

We invite comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that comments submitted in response to this notice are a matter of public record. Before including your address, phone number, email address, or other personal identifying information in your comment, you should be aware that your entire comment, including your personal identifying information, may be made publicly available at any time. While you can ask us in your comment to withhold your personal identifying information from public view, we cannot guarantee that we will be able to do so.

Dated: September 18, 2013.
Anne Kinsinger,
Associate Director for Biolog U.S. Geological Survey.

[FR Doc. 2013-23284 Filed 9-24-13; 8:45 am]

BILLING CODE 4310-AM-P